DEPARTMENT OF ENERGY

Federal Energy Regulatory Commission

[Docket No. CP03-75-000]

Freeport LNG Development, L.P.; Notice of Availability of the Draft Environmental Impact Statement for the Proposed Freeport LNG Project

November 6, 2003.

The staff of the Federal Energy Regulatory Commission (FERC or Commission) has prepared this draft environmental impact statement (EIS) on the liquefied natural gas (LNG) import terminal and natural gas pipeline facilities proposed by Freeport LNG Development, L.P. (Freeport LNG) in the above-referenced docket.

The draft EIS was prepared to satisfy the requirements of the National Environmental Policy Act. The staff concludes that approval of the proposed project with appropriate mitigating measures as recommended, would have limited adverse environmental impact. The draft EIS also evaluates alternatives to the proposal, including system alternatives, alternative sites for the LNG import terminal, and pipeline alternatives.

The draft EIS addresses the potential environmental effects of the construction and operation of the following facilities in Brazoria County, Texas.

• LNG ship docking and unloading facilities with a protected single berth equipped with mooring and breasting dolphins, three liquid unloading arms, and one vapor return arm;

• reconfiguration of a storm protection levee and a permanent access road;

• two 26-inch-diameter (32-inch outside diameter) LNG transfer lines, one 16-inch-diameter vapor return line, and service lines (instrument air, nitrogen, potable water, and firewater);

• two double-walled LNG storage tanks each with a usable volume of 1,006,000 barrels (3.5 billion cubic feet of gas equivalent);

• six 3,240 gallon-per-minute (gpm) in-tank pumps;

• seven 2,315 gpm high pressure LNG booster pumps;

• three boil-off gas compressors and a condensing system;

• six high-pressure LNG vaporizers using a primary closed circuit water/glycol solution heated with twelve water/glycol boilers during cold weather and a set of intermediate heat exchangers using a secondary circulating water system heated by an air tower during warm weather, and circulation pumps for both systems;

• two natural gas superheaters and two fuel gas heaters;

• ancillary utilities, buildings, and service facilities at the LNG terminal; and

• 9.6 miles of 36-inch-diameter natural gas pipeline extending from the LNG import terminal to a proposed Stratton Ridge Meter Station.

The purpose of the Freeport LNG Project is to provide the facilities necessary to deliver LNG to intrastate shippers, including Dow Chemical Company (Dow), at the proposed Stratton Ridge Meter Station by 2007. Freeport LNG's proposed facilities would re-vaporize and transport up to 1.5 billion cubic feet per day.

Comment Procedures and Public Meeting

Any person wishing to comment on the draft EIS may do so. To ensure consideration prior to a Commission decision on the proposal, it is important that we receive your comments before the date specified below. Please carefully follow these instructions to ensure that your comments are received in time and properly recorded:

• Send an original and two copies of your comments to: Magalie R. Salas, Secretary, Federal Energy Regulatory Commission, 888 First St., NE., Room 1A, Washington, DC 20426;

• Reference Docket No. CP03-75-000;

• Label one copy of your comments for the attention of Gas Branch 2, PJ11.2; and;

• Mail your comments so that they will be received in Washington, DC on or before December 29, 2003.

Please note that we are continuing to experience delays in mail deliveries from the U.S. Postal Service. As a result, we will include all comments that we receive within a reasonable time frame in our environmental analysis of the project. However, the Commission strongly encourages electronic filing of any comments or interventions to this proceeding. See 18 CFR 385.2001(a)(1)(iii) and the instructions on the Commission's Web site at http://www.ferc.gov under the “e-Filing” link and the link to the User's Guide. Before you can file comments you will need to create a free account which can be created online.

In addition to or in lieu of sending written comments, we invite you to attend the public scoping meeting we will conduct in the area. The location and time for this meeting is listed below: December 9, 2003, 7 p.m., Lake Jackson Civic Center, 333 Highway 332 East, Lake Jackson, Texas 77566, Telephone: 979-415-2600.

This meeting will be posted on the Commission's calendar located at http://www.ferc.gov/EventCalendar/EventsList.aspx along with other related information.

After these comments are reviewed, any significant new issues are investigated, and modifications are made to the draft EIS, a final EIS will be published and distributed by the staff. The final EIS will contain the staff's responses to timely comments received on the draft EIS.

Comments will be considered by the Commission but will not serve to make the commentor a party to the proceeding. Any person seeking to become a party to the proceeding must file a motion to intervene pursuant to Rule 214 of the Commission's Rules of Practice and Procedures (18 CFR 385.214).

Anyone may intervene in this proceeding based on this draft EIS. You must file your request to intervene as specified above.¹ You do not need intervenor status to have your comments considered.

¹ Interventions may also be filed electronically via the Internet in lieu of paper. See the previous discussion on filing comments electronically.

The draft EIS has been placed in the public files of the FERC and is available for public inspection at: Federal Energy Regulatory Commission, Public Reference and Files Maintenance Branch, 888 First Street, NE., Room 2A, Washington, DC 20426, (202) 502-8371.

A limited number of copies are available from the Public Reference and Files Maintenance Branch identified above. In addition, the draft EIS has been mailed to Federal, state, and local agencies; public interest groups; individuals, and affected landowners who requested a copy of the draft EIS; libraries; newspapers; and parties to this proceeding.

Additional information about the Project is available from the Commission's Office of External Affairs, at 1-866-208-FERC or on the FERC Internet Web site (www.ferc.gov) using the eLibrary link. Click on the eLibrary link, click on “General Search” and enter the docket number excluding the last three digits in the Docket Number field. Be sure you have selected an appropriate date range. For assistance with eLibrary, the eLibrary helpline can be reached at 1-866-208-3676, TTY (202) 502-8659 or at FERCOnlineSupport@FERC.gov. The eLibrary link on the FERC Internet website also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to the eSubscription link on the FERC Internet Web site.

Magalie R. Salas,
Secretary.

[FR Doc. E3-00216 Filed 11-13-03; 8:45 am]

BILLING CODE 6717-01-P